DEPARTMENT OF DEFENSE

Department of the Navy

Public Hearings for the Draft Environmental Impact Statement for Proposed Military Operational Increases and Implementation of Associated Comprehensive Land Use Management and Integrated Natural Resources Management Plan, Naval Air Weapons Station China Lake, China Lake, CA

AGENCY: Department of the Navy, DOD.

ACTION: Notice.

SUMMARY: Pursuant to section 102(2) of the National Environmental Policy Act, of 1969 and the regulations implemented by the Council on Environmental Quality (40 CFR Parts 1500-1508), the Department of the Navy (Navy) in cooperation with the Bureau of Land Management (BLM) prepared and filed with the U.S. Environmental Protection Agency (EPA) a Draft Environmental Impact Statement (DEIS) on November 15, 2002, to evaluate proposed military operational increases and implementation of associated Comprehensive Land Use Management (CLUMP) and Integrated Natural Resources Management Plan (INRMP) at Naval Air Weapons Station China Lake, CA. A Notice of Intent for this DEIS was published in the Federal Register on April 1, 1997, (62 FR 20160). Six public scoping meetings were held between May-June 1997. The Navy and BLM will conduct five public hearings to receive oral and written comments on the DEIS. Federal, state, and local agencies, as well as interested individuals are invited to be present or represented at the public hearings. This notice announces the dates and locations of the public hearings for this DEIS.

DATES AND ADDRESSES: An open information session will precede the scheduled public hearing at each of the locations listed below. The open information session will begin at 6 p.m., followed by the public hearing beginning at 7 p.m. and ending at 9 p.m. Public hearings will be held at the following dates and locations:

—Tuesday, January 21, 2003, Kerr McGee Community Center, 100 West California Avenue, Ridgecrest, CA.

—Wednesday, January 22, 2003, Inyokern Elementary, 6601 Locust Avenue, Inyokern, CA.

—Thursday, January 23, 2003, City of Barstow Council Chamber, 220 East Mountain View Street, Suite A, Barstow, CA.

—Tuesday, January 28, 2003, Owens Valley Unified School District, 202 South Clay Street, Independence, CA.

—Wednesday, January 29, 2003, Trona School, 93600 Trona Road, Trona, CA.

FOR FURTHER INFORMATION CONTACT: Mr. John O'Gara, Environmental Planning and Management Department, Naval Air Weapons Station China Lake, China Lake, CA. Telephone (760) 939-3213, facsimile (760) 939-2980, or e-mail: ogaraje@navair.navy.mil.

SUPPLEMENTARY INFORMATION: The proposed action includes a moderate increase of military operations, continuation of current non-military activities, and implementation of the CLUMP and INRMP. The preferred alternative presented in the DEIS would allow approximately a 25 percent increase in the type, tempo, and location of military testing and evaluation and training operations. There are no significant environmental impacts associated with any of the alternatives, including the preferred alternative.

The DEIS has been distributed to various Federal, state, and local agencies, elected officials, and special interest groups, and is available for public review at the following public libraries:

—Kern County Library, Ridgecrest Branch (Document Display Shelf), 131 East Las Flores, Ridgecrest, CA.

—Inyo County Free Library, Independence Branch (Reference Section), 168 North Edwards, Independence, CA.

—San Bernardino Library, Trona Branch, 82805 Mountain View, Trona, CA.

In addition, the DEIS is available for review at the Public Affairs Office at Naval Air Warfare Center, Weapons Division, Room 1015, Building 1, 1 Administration Circle, China Lake, CA. The Executive Summary of the DEIS and other information may be viewed at the following Internet address: http://www.nawcwpns.navy.mil/~cllump/cllump.html.

The Navy will conduct five public hearings to receive oral and written comments concerning the DEIS at each of the locations previously listed. At each hearing location, information poster stations will be available from 6 p.m. to 7 p.m., followed by the official hearing beginning at 7 p.m. and ending at 9 p.m. Navy and BLM representatives will be available during the information session to clarify information related to the DEIS. Federal, state, and local agencies, as well as interested parties are invited and urged to be present or represented at the hearing. Oral statements will be heard and transcribed by a stenographer; however, to ensure the accuracy of the record, all statements should be submitted in writing. All statements, both oral and written, will become part of the public record on the DEIS and will be responded to in the Final Environmental Impact Statement (FEIS). Equal weight will be given to both oral and written statements.

In the interest of available time and to ensure that all who wish to give an oral statement have the opportunity to do so, each speaker's comments will be limited to three (3) minutes. If a longer statement is to be presented, it should be summarized at the public hearing and the full text submitted in writing either at the hearing, or mailed, or faxed to: Mr. John O'Gara, Environmental Planning and Management Department, Naval Air Weapons Station China Lake, China Lake, CA. Telephone (760) 939-3213, facsimile (760) 939-2980. All written comments postmarked by February 21, 2003, will become a part of the official public record and will be responded to in the FEIS.

Dated: December 23, 2002.
R. E. Vincent II,
Lieutenant Commander, Judge Advocate General's Corps, U.S. Navy, Federal Register Liaison Officer.

[FR Doc. 03-54 Filed 1-2-03; 8:45 am]

BILLING CODE 3810-FF-P